DEPARTMENT OF HEALTH AND HUMAN SERVICES

National Institutes of Health

Center for Scientific Review; Amended Notice of Meeting

Notice is hereby given of a change in the meeting of the Development-1 Study Section, October 26, 2006, 8 a.m. to October 27, 2006, 5 p.m., Georgetown Suites, 1111 29th Street, NW., Washington, DC 20007, which was published in the Federal Register on September 29, 2006, 71 FR 57554-57556.

The meeting will be held on October 26, 2006, from 8 a.m. to 6 p.m. The meeting location remains the same. The meeting is closed to the public.

Dated: October 18, 2006.
Anna Snouffer,
Acting Director, Office of Federal Advisory Committee Policy.

[FR Doc. 06-8878 Filed 10-24-06; 8:45 am]

BILLING CODE 4140-01-M